DEPARTMENT OF TRANSPORTATION

Federal Transit Administration

Preparation of an Alternatives Analysis and Environmental Impact Statement for High Capacity Transit Improvements for the Indianapolis Northeast Corridor in the Indiana Counties of Marion and Hamilton

AGENCY: Federal Transit Administration, U.S. Department of Transportation.

ACTION: Notice of Intent to prepare an Alternatives Analysis/Environmental Impact Statement.

SUMMARY: The Federal Transit Administration (FTA), the Central Indiana Regional Transportation Authority (CIRTA), the Indianapolis Metropolitan Planning Organization (Indianapolis MPO) and Indianapolis Public Transportation Corporation (IndyGo) intend to prepare an Alternatives Analysis/Environmental Impact Statement (AA/EIS) relating to proposed high capacity transit improvements in the Northeast Corridor located in the Indiana counties of Marion and Hamilton. The study area is an approximately 23-mile long travel corridor extending from downtown Indianapolis to the northern parts of Noblesville and includes the communities of Carmel and Fishers. Options to be considered include No-Build, Transportation System Management (TSM), Bus Rapid Transit (BRT), and Commuter Rail. The AA/EIS will be prepared in accordance with the requirements of the National Environmental Policy Act (NEPA) and its implementing regulations. The AA/EIS process provides opportunities for the public to comment on the scope of the EIS, including the project's purpose and need, the alternatives to be considered, and the impacts to be evaluated. The southern terminal of all alternatives will be Union Station or an adjacent transit center in downtown Indianapolis.

The purpose of this notice is to alert interested parties regarding the intent to prepare the AA/EIS, to provide information on the nature of the proposed project and possible alternatives, to invite public participation in the AA/EIS process, including comments on the scope of the EIS as proposed in this notice, to announce that public scoping meetings will be conducted, and to identify participating agency contacts. This input will be used to assist decisionmakers in determining a locally preferred alternative (LPA) and Draft Environmental Impact Statement (DEIS) for the Northeast Corridor. Upon selection of an LPA, the project sponsors will request permission from FTA to enter into preliminary engineering per requirements of New Starts regulations 49 CFR Part 611. The Final Environmental Impact Statement (FEIS) will be issued after FTA approves entrance into preliminary engineering.

Dates, Times, and Locations: Comment Due Date: Written comments on the purpose and need for the proposed improvements, and the scope of alternatives and impacts to be considered should be sent to the Indianapolis MPO by April 30, 2010. Public scoping meetings to accept comments on the scope of the study will be held on the following dates:

• Wednesday, March 17 from 7 p.m. until 8:30 p.m. in the Julia Carson Government Center located at 300 E Fall Creek Parkway N Dr., Indianapolis, Indiana.

• Wednesday, March 24 from 7 p.m. until 8:30 p.m. in the Hamilton County Government Center located at One Hamilton County Square, Noblesville, Indiana.

The public scoping meetings will be informal meetings in an open house format. Interested persons may ask questions about the proposal and the FTA's environmental review process. The project's purpose and need and the initial set of alternatives proposed for study will be presented at these meetings. CIRTA, MPO and IndyGO project team members will be available to answer questions and receive comments. Writing stations will be available to those who wish to submit written comments at the public scoping meetings. Project team members will be available to listen and make notes of residents' comments.

The public scoping meeting locations comply with the Americans with Disabilities Act. Persons needing special accommodations should contact Anna M. Tyskiewicz, Project Manager, at (317) 327-5487 or atyszkie@indygov.org at least 48 hours prior to the meeting.

Subsequent to the public scoping meetings, an interagency scoping meeting for Federal, State, regional and local resource and regulatory agencies will be held in April 2010. All appropriate agencies that may have an interest in this project, or have a potential interest in becoming a participating agency, will be notified of the meeting through separate direct correspondence.

Submitting Comments on the Scope of the Study: Scoping materials will be available at the meetings and through the project's Web site at http://www.indyconnect.org. FTA, CIRTA, the Indianapolis MPO and IndyGo encourage broad participation in the AA/EIS process. All interested agencies, organizations, communities, and members of the public are invited to participate in the scoping process by reviewing and commenting on the scope of the AA/EIS.

ADDRESSES: Written comments on the scope of the AA/EIS may be submitted to the attention of Anna M. Tyskiewicz, Project Manager, Indianapolis Metropolitan Planning Organization, City County Building, Suite 1922, 200 E. Washington Street, Indianapolis, Indiana 46204, Phone: (317) 327-5487, Fax (317) 327-5950, E-mail: atyszkie@indygov.org.

Additional Information: Contact Reginald Arkell, Federal Transit Administration, Region 5, 200 W. Adams Street, Suite 320, Chicago, Illinois 60606, Phone: 312-886-3704, E-mail: reginald.arkell@dot.gov.

SUPPLEMENTARY INFORMATION:

I. Scoping

The FTA, the Indianapolis MPO and CIRTA invite all interested individuals, organizations, businesses, and Federal, State, and local agencies to participate in establishing the purpose and need, project alternatives, and methodologies of the environmental analysis approach for the AA/EIS, as well as participate in an active public involvement program. During the scoping process, the public is invited to comment on (a) the purpose and need; (b) the alternatives to be addressed; (c) the transit technologies to be evaluated; (d) the alignments and station locations to be considered; (e) the environmental, social, and economic impacts to be analyzed; and (f) the evaluation approach to be used to select the LPA.

NEPA “scoping” (40 CFR 1501.7) is intended to identify the significant issues associated with alternatives that will be examined in detail and to limit consideration of issues that are not truly significant. It is in the NEPA scoping process that potentially significant environmental impacts should be identified. Environmental benefits will also be highlighted.

Once the scope of the environmental study is defined, an annotated outline of the draft AA/EIS will be prepared and shared with interested agencies and the public. The outline will serve to: (1) Document the results of the scoping process; (2) contribute to the transparency of the process; and (3) provide a clear roadmap for concise development of the environmental document.

Following the public scoping process, public outreach activities will continue with interested residents, stakeholders and groups throughout the AA/EIS process. The Web site, http://www.indyconnect.org, will be updated periodically to reflect the status of the project. Additional opportunities for public participation will be announced through mailings, notices, and press releases.

II. Description of Study Area and Project Need

The Study Area includes the main travel corridors between downtown Indianapolis and the rapidly growing areas of Hamilton County, Indiana, including the communities of Carmel, Fishers, and Noblesville, as well as the intervening high-density residential and commercial areas of northeastern and central Marion County. This is referred to as the Northeast Corridor. The length of this corridor, from downtown Indianapolis to the northern part of Noblesville, is approximately 23 miles.

This part of Indianapolis contains the region's most severe travel congestion and mobility challenges. Previous studies have shown that the Northeast Corridor, and particularly I-69 north of I-465, continues to face the worst traffic congestion in the region. Given growing mobility challenges, forecasted populations and employment growth coupled by a strong urban center near downtown Indianapolis, a potential promising alternative is investment in transit to supplement and enhance existing Indianapolis bus systems (IndyGo) and to extend services to new markets throughout this regional corridor.

III. Alternatives

The proposed alternatives to be evaluated in the AA/EIS will include the following:

• No-Build Alternative: The No-Build Alternative is defined as the existing transportation system, plus any committed transportation improvements. Committed transportation improvements include projects that are already in the Indianapolis MPO and Indiana Department of Transportation (INDOT) financially constrained Transportation Improvement Program (TIP), which includes added travel lanes and interchange improvements on I-69 and I-465.

• Transportation System Management (TSM) Alternative: A TSM Alternative, which reflects the best that can be done for mobility without constructing a new transit guideway, is required as part of the New Starts evaluation process. Bus service would operate in mixed traffic along I-69, Binford Boulevard, Fall Creek Parkway, and the Capitol Avenue/Illinois Street one-way pair between Noblesville and South Street in Indianapolis.

• Bus Rapid Transit (BRT) Alternative: A dedicated busway with on-line stations and other related capital improvements would be constructed in the HHPA Railroad right-of-way between Noblesville and approximately 10th Street in Indianapolis, then operations would occur on-street in mixed traffic via the Capitol Avenue/Illinois Street one-way pair to South Street.

• Commuter Rail Transit (CRT) Alternative: In the commuter rail transit alternative, two different train technologies will be considered—FRA compliant vehicles (suitable for mixed traffic with freight trains) and non-FRA compliant light rail vehicles. FRA compliant vehicles, which would include passenger coaches powered by diesel locomotives or diesel multiple units (DMUs), would operate on improved tracks in the HHPA Railroad right-of-way between Noblesville and approximately 10th Street in Indianapolis, then in the CSX Railroad right-of-way to Union Station. Non-FRA-compliant DMU light rail vehicles would operate on improved tracks in the HHPA Railroad right-of-way between Noblesville and approximately 10th Street in Indianapolis, then in the CSX Railroad right-of-way to Union Station. As an option for reaching a downtown transit center at or adjacent to Union Station, an alignment through the street network of downtown Indianapolis will be analyzed to avoid potential freight conflicts and to allow opportunities for additional stops in the core downtown employment district.

Based on public and agency input received during scoping, variations of the above alternatives will be considered for the Northeast Corridor.

IV. Potential Impacts for Analysis

The scoping process will identify which of the following environmental impact areas are most relevant to the project, and merit further exploration in the AA/EIS. The impact areas include: land use, zoning, potential displacements, parkland, economic development, community disruptions, environmental justice, aesthetics, air quality, noise and vibration, wildlife, vegetation, threatened and endangered species, farmland, water quality, wetlands, waterways, floodplains, hazardous materials, and cultural, historic and archaeological resources.

The AA/EIS will take into account both positive and negative impacts, direct and indirect impacts, short-term and long-term impacts and site specific and corridor wide impacts. Evaluation criteria will be consistent with all Federal, State, and local criteria, regulations and policies. The AA/EIS will identify measures to avoid or mitigate significant adverse environmental impacts.

To ensure that all significant issues related to this proposed action are identified and addressed, scoping comments and suggestions are invited from all interested parties.

The Public Involvement Program will include a full range of involvement activities. Activities will include outreach to local and regional officials and community and civic groups; a public scoping process to define the issues of concern among all parties interested in the project; organizing periodic meetings with various local agencies, organizations and committees; a public hearing on release of the DEIS; and development and distribution of project newsletters. There will be additional opportunities to participate in the scoping process in addition to the public meetings announced in this notice. Specific mechanisms for involvement will be detailed in the Public Involvement Program.

V. Evaluation Criteria

The Indianapolis MPO may seek New Starts funding for the proposed project under 49 U.S.C. 5309 and will therefore be subject to New Starts regulations (49 CFR Part 611). The New Starts regulations require a planning Alternatives Analysis that leads to the selection of a locally preferred alternative and inclusion of the locally preferred alternative as part of the long-range transportation plan adopted by the Indianapolis MPO. The New Starts regulations also require the submission of certain project-justification information in support of a request to initiate preliminary engineering, which is normally developed in conjunction with the NEPA process. Pertinent New Starts evaluation criteria will be included in an appendix of the FEIS.

VI. The EIS Process and the Role of Participating Agencies and the Public

The regulations implementing NEPA, as well as provisions of the Safe, Accountable, Flexible, Efficient Transportation Equity Act: A Legacy for Users (SAFETEA-LU), call for public involvement in the AA/EIS process. Section 6002 of SAFETEA-LU requires the following: (1) Extend an invitation to other Federal and non-Federal agencies and Native American tribes that may have an interest in the proposed project to become “participating agencies;” (2) provide an opportunity for involvement by participating agencies and the public to help define the purpose and need for a proposed project, as well as the range of alternatives for consideration in the AA/EIS; and (3) establish a plan for coordinating public and agency participation in, and comment on, the environmental review process.

The AA/EIS will be prepared in accordance with NEPA and its implementing regulations issued by the Council on Environmental Quality (40 CFR Parts 1500-1508) and with the FTA/Federal Highway Administration regulations “Environmental Impact and Related Procedures” (23 CFR Part 771). In accordance with 23 CFR 771.105(a) and 771.133, FTA will comply with all Federal environmental laws, regulations, and executive orders applicable to the proposed project during the environmental review process to the maximum extent practicable. These requirements include, but are not limited to, the environmental and public hearing provisions of Federal transit laws (49 U.S.C. 5301(e), 5323(b), and 5324), the project-level air quality conformity regulation of the U.S. Environmental Protection Agency (EPA) (40 CFR part 93), the section 404(b)(1) guidelines of EPA (40 CFR part 230), the regulation implementing section 106 of the National Historic Preservation Act (36 CFR part 800), the regulation implementing section 7 of the Endangered Species Act (50 CFR part 402), section 4(f) of the Department of Transportation Act (23 CFR 771.135), and Executive Orders 12898 on environmental justice, 11988 on floodplain management.

Issued on: March 3, 2010.
Marisol Simón,
Regional Administrator.

[FR Doc. 2010-4973 Filed 3-8-10; 8:45 am]

BILLING CODE P